DEPARTMENT OF TRANSPORTATION

Maritime Administration

[Docket No. MARAD-2001-10420]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before October 19, 2001.

FOR FURTHER INFORMATION CONTACT: Michael Ferris, Maritime Administration, MAR 560, 400 Seventh Street, SW., Washington, DC 20590. Telephone: 202-366-2324. FAX: 202-366-7901. Copies of this collection can also be obtained from that office.

SUPPLEMENTARY INFORMATION: Title of Collection: Subsidy Voucher—Operating Differential Subsidy (Bulk & Liner Cargo Vessels).

Type of Request: Extension of currently approved information collection.

OMB Control Number: 2133-0024.

Form Numbers: MA 790, SF-1034 and Supporting Schedules.

Expiration Date of Approval: March 31, 2002.

Summary of Collection of Information: The Merchant Marine Act, 1936, authorizes the Secretary of Transportation to provide financial aid in the operation of contract vessels for bulk or liner cargo carrying services that help promote, develop, expand and maintain the foreign commerce of the United States. Vessel owners must submit documentation requesting the financial assistance to the Maritime Administration (MARAD).

Need and Use of the Information: MARAD will review the documentation to determine subsidy payable to operators for voyages performed in accordance with the Operating-Differential Subsidy (ODS) Agreements.

Description of Respondents: Operators of Bulk and Liner Vessels.

Annual Responses: 8.

Annual Burden: 16 hours.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

By Order of the Maritime Administrator.
Dated: August 15, 2001.
Joel C. Richard,
Secretary.

[FR Doc. 01-20909 Filed 8-17-01; 8:45 am]

BILLING CODE 4910-81-P